FEDERAL COMMUNICATIONS COMMISSION

47 CFR Part 73

[DA 03-1227; MB Docket No. 02-199; RM-102-199; RM-10514]

Radio Broadcasting Services; Magnolia, AR and Oil City, LA

AGENCY: Federal Communications Commission.

ACTION: Final rule.

SUMMARY: In this document, at the request of Columbia Broadcasting Company, Inc., licensee of Station KVMA-FM, Magnolia, Arkansas, the Commission substitutes channel 300C2 for 300C1 at Magnolia, Arkansas and reallots Channel 300C2 from Magnolia to Oil City, Louisiana, as the community's first local transmission service, and modifies Station KVMA's authorization to specify Oil City as the community of license. Comments filed by Access.1 Communications—Shreveport, LLC opposing the reallotment are dismissed. Channel 300C2 can be reallotted from Magnolia to Oil City at petitioner's proposed site 27.6 kilometers (17.1 miles) northeast of the community at coordinates 32-54-06 NL and 93-44-01 WL.

DATES: Effective June 16, 2003.

FOR FURTHER INFORMATION CONTACT: Victoria M. McCauley, Media Bureau, (202) 418-2180.

SUPPLEMENTARY INFORMATION: This is a synopsis of the Commission's Report and Order, MB Docket No. 02-199, adopted, April 28, 2003, and released April 30, 2003. The full text of this Commission decision is available for inspection and copying during normal business hours in the FCC Reference Center (Room 239), 445 12th Street, SW., Washington, DC. This document may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334, and 336.

§ 73.202 [Amended]

2. Section 73.202(b), the Table of FM Allotments under Arkansas, is amended by removing Magnolia, channel 300C1.

3. Section 73.202(b), the Table of FM Allotments under Louisiana, is amended by adding Oil City, channel 300C2.

Federal Communications Commission.
John A. Karousos,
Assistant Chief, Audio Division, Media Bureau.

[FR Doc. 03-12791 Filed 5-21-03; 8:45 am]

BILLING CODE 6712-01-P